DEPARTMENT OF HEALTH AND HUMAN SERVICES

Centers for Disease Control and Prevention

[Program Announcement 01161]

Enhance Research, Infrastructure, and Capacity Building for American Indian Tribal Colleges and Universities; Notice of Availability of Funds

A. Purpose

The Centers for Disease Control and Prevention (CDC) and the Agency for Toxic Substances and Disease Registry (ATSDR) announces the availability of fiscal year (FY) 2001 funds for a cooperative agreement program. The purpose of the program is to assist the American Indian Tribal Colleges and Universities in developing the commitment and capacity to promote education, development, research, leadership and community partnerships that enhance the participation of American Indians in the health professions; and to enhance the health status of American Indians in the United States.

The CDC and ATSDR are committed to achieving the health promotion and disease prevention objectives of “Healthy People 2010”, a national activity to reduce morbidity and mortality and to improve the quality of life. This announcement is related to the “Healthy People 2010” objectives which specify improving the health of groups of people bearing a disproportionate burden of poor health as compared to the total population. The framework of “Heathy People 2010” consists of two broad goals which are to:

1. increase quality and years of healthy life; and

2. eliminate health disparities.

“Healthy People” is the national prevention initiative that identifies opportunities to improve the health of all Americans. For a copy of “Healthy People 2010” visit the internet site: http://www.health.gov.healtlhypeople.

B. Eligible Applicants

To be eligible for funding under this announcement, applicants must be a tax-exempt private or public non-profit organization with Internal Revenue Service (IRS) Code, Section 501(c)(3) status; tribal colleges in the United States; or federally recognized Indian Tribal governments, Indian tribes or Indian Tribal organizations.

If the applicant is applying as a tax exempt non-profit organization, proof of non-profit tax-exempt status must be provided with the application. CDC will not accept an application without proof of tax-exempt status. Non-profit tax-exempt status is determined by the IRS Code, Section 501(c)(3). Tax-exempt status may be proved by providing a current copy of the 501(c)(3) non-profit tax-exempt of the current IRS Determination Letter.

Note: Title 2 of the United States Code, Chapter 26, Section 1611 states that an organization described in section 501(c)(4) of the Internal Revenue Code that engages in lobbying activities is not eligible to receive Federal funds constituting an award, grant, or loan.

C. Availability of Funds

Approximately $200,000 is available in FY 2001 to fund the Central Coordinating Organization for this cooperative agreement. It is expected that additional funds may be made available through other Centers, Institutes and Program Offices (CIOs), within the CDC/ATSDR to fund supplemental awards under this cooperative agreement for projects of Tribal Colleges and Universities with whom the applicant collaborates. It is expected that the awards will begin on or about September 1, 2001, and will be made for a 12-month budget period, within a project period of up to five years. Funding estimates may change.

Continuation awards within the project period will be made on the basis of satisfactory progress as evidenced by required reports and the availability of funds.

D. Program Requirements

In conducting activities to achieve the purpose of this program, the recipient will be responsible for the activities under 1. (Recipient Activities), and CDC will be responsible for the activities listed under 2. (CDC Activities).

1. Recipient Activities:

a. Curriculum, Technology, and Infrastructure Development

(1) Determine what the Tribal Colleges and Universities are currently doing in regards to Public Health and Health prevention, e.g. curriculum, program prevention services, and health promotion activities.

(2) Assist Tribal Colleges and Universities in increasing their knowledge of the Federal grants application process, such as budget initiation and grant writing.

(3) Develop distance based learning programs, satellite and video conferencing opportunities, and other information systems for Tribal Colleges and Universities to enhance the educational opportunities in the fields of public health and to enhance the research, statistical, and public health educational skills of the students.

(4) Enhance access to culturally relevant instructional material focusing on epidemiology, environmental health, public health, and biostatistics for the Tribal Colleges and Universities.

b. Professional Development and Continuing Education

(1) Assist Tribal Colleges and Universities in developing curricula for educating and training students in introductory courses in the fields of public health, occupational health, environmental health, allied health, and other health related areas.

(2) Assist Tribal Colleges and Universities in establishing faculty development opportunities at the CDC/ATSDR.

c. Student Training Opportunities, Fellowship Programs, and Internship Programs

(1) Assist Tribal Colleges and Universities in establishing CDC/ATSDR internship and fellowship opportunities that will enable students to gain knowledge and experience in public health practices.

(2) Assist the Tribal Colleges and Universities in developing public health classroom instructional materials and practicum opportunities for field assignees for their member schools.

(3) Assist Tribal Colleges and Universities in identifying other new public health field experiences for American Indians.

d. Capacity Building and Resource Development

(1) Serve as a resource for Tribal Colleges and Universities in developing educational programs targeting public health professionals.

(2) Enhance access to health related resource information, instructional material, and teaching techniques for health professionals at the Tribal Colleges and Universities.

(3) Assist Tribal Colleges and Universities in developing culturally competent prevention research and related educational programs for communities serving American Indians.

e. Program Coordination and Coalition Building

(1) Assist Tribal Colleges and Universities in collaborating with State and local health departments, as well as community-based organizations, in providing special needs projects that provide an opportunity for “hands on” experience for instructors and students.

(2) Sponsor and facilitate conferences/forums that promote collaboration and coalition building among Tribal Colleges and Universities, Federal, and private partners.

f. Needs Assessment

(1) Conduct a needs assessment with Tribal Colleges and Universities' faculty and students to identify educational needs and current public health practices.

(2) Assist Tribal Colleges and Universities in establishing research priorities for funding purposes, and to assist Tribal Colleges and Universities in identifying health disparities.

g. Public Health Research in Prevention, Policy, and Dissemination

(1) Assist Tribal College and Universities in evaluating multi-component, community-based intervention strategies that address health disparities among American Indians.

(2) Assist Tribal Colleges and Universities in developing research activities that have an impact on eliminating health disparities among American Indians.

(3) Assist Tribal Colleges and Universities in assessing the impact of public health infrastructure, and policy changes on disease, injury, and disability.

(4) Assist Tribal Colleges and Universities in providing faculty and student training and other career development opportunities in prevention research that are critical to the mission and goals of CDC and ATSDR.

2. CDC/ATSDR Activities:

CDC/ATSDR will provide technical assistance and guidance as requested for the activities provided under recipient requirements.

E. Applications

Use the information in the Program Requirements, Other Requirements, and Evaluation Criteria sections to develop the application content. Your application will be evaluated based on the criteria listed, so it is important to follow them in laying out your program plan. The narrative should be no more than 30 double-spaced pages, printed on one side, with one inch margins, and unreduced font.

(The narrative should consist of, at a minimum, a Plan, Objectives, Methods, Evaluation and Budget.)

F. Submission and Deadline

Submit the original and five copies of PHS-398 (OMB Number 0925-001) (adhere to the instructions on the Errata Instruction Sheet for PHS 398)]. Forms are available in the application kit and www.cdc.gov/od/pgo/forminfo.htm.

On or before August 13, 2001, submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmark shall not be acceptable as proof of timely mailing.)

Late: Applications which do not meet the criteria in 1. or 2. above, will be returned to the applicant.

G. Evaluation Criteria

The funding provided in this announcement is being made only for the Central Coordinating Organization. When applications for special projects (those submitted by Tribal Colleges and Universities) are later submitted, they will be funded separately. Each application will be evaluated individually by an independent review group appointed by CDC/ATSDR. Special projects will be evaluated based on criteria for special projects. Applications from Central Coordinating Organizations will be evaluated in accordance with the following criteria:

1. Organizational Summary: (25 points)

a. The extent to which the applicant describes the history, nature, and extent of its relevant experience within the last two years with supporting documentation.

b. The extent to which the applicant describes existing facilities and staff (including resumes and job descriptions) to accomplish the desired outcomes.

2. History and Experience in working with public health programs with Ethnic/Racial Groups: (20 points)

a. Extent to which the applicant documents at least two years of experience and success in operating and administering a public health or related program serving the target population.

b. Extent to which applicant documents experience in working on public health programs with ethnic/racial groups.

c. The adequacy of the organization's proposed staffing and collaborations with partners, to meet the design and evaluation needs of the project. Include the nature of the partnership, members of the partnership, and relevant experience.

3. Capacity of the organization to work with Tribal Colleges and Universities: (25 points)

a. Organization must show proof of previous experience in working with Tribal Colleges and Universities; or with the target population group within the last four years.

b. Organization must provide letters of support from several Tribal Colleges and Universities showing that a collaborative partnership has been formed.

4. Action Plan: (15 points)

a. Extent to which the applicant demonstrates a thorough and reasonable plan in developing the program, including assurance of community participation and participation of Tribal Colleges and Universities in the planning process.

b. The extent to which the applicant provides a reasonable and complete schedule for implementing all activities.

c. The extent to which concurrence with the applicant's plans are concurred by Tribal Colleges and Universities.

5. Evaluation Plan: (15 points)

a. The extent to which the proposed evaluation plan is detailed and will document program process, effectiveness, impact and outcome.

b. The extent to which the applicant demonstrates potential data sources for evaluation purposes, and documents staff availability, expertise, and capacity to perform the evaluation.

c. The extent to which a feasible plan for reporting evaluation results and using evaluation information for programmatic decisions is included.

6. Budget and Justification: (not scored)

The extent to which the applicant provides a detailed budget and narrative justification consistent with stated objectives and planned program activities.

Applications for special projects (those submitted by member schools and the Cental Coordination Organization) will be evaluated individually in accordance with the following criteria:

1. Background, Purpose, and Priority Area(s): (20 points)

a. The extent to which the applicant described the health status of the target population group(s) geographic community, and priority area(s) to be addressed.

b. The extent to which the applicant uses data (if available) and other supporting evidence to document the health status of the racial/ethnic population groups and health disparities within the group, the appropriateness of the target population sizes for the priority area(s) selected.

c. The degree of the disparity between the target population and the general population based on local, State, and national data which directly supports the basis for the health disparity in the priority area(s) selected.

2. Program Objectives: (15 points)

a. The extent to which the proposed objectives are specific, measurable, time-phased, and consistent with the program purpose and the proposed activities, and consistent with the applicant organization's overall mission.

b. The extent to which the applicant has included objectives which are feasible to be accomplished during the budget period, and which address all activities necessary to accomplish the purpose of the proposal.

3. Action Plan: (20 points)

a. Extent to which the applicant demonstrates a thorough and reasonable plan in developing the program, including assurance of community participation and participation in the planning process.

b. The extent to which the applicant provides a reasonable and complete schedule for implementing all activities.

c. The extent to which concurrence with the applicant's plans are concurred by all collaborating parties.

4. Evaluation Plan: (15 points)

a. The extent to which the proposed evaluation plan is detailed and will document program process, effectiveness, impact and outcome.

b. The extent to which the applicant demonstrates potential data sources for evaluation purposes, and documents staff availability, expertise, and capacity to perform the evaluation.

c. The extent to which a feasible plan for reporting evaluation results and using evaluation information for programmatic decisions is included.

5. Research Plan: (20 points)

The degree to which the applicant has met the CDC Policy requirements regarding the inclusion of women, ethnic, and racial groups in the proposed research. This includes:

a. The proposed plan for the inclusion of both sexes and racial and ethnic minority populations for appropriate representation.

b. The proposed justification when representation is limited or absent.

c. A statement as to whether the design of the study is adequate to measure differences when warranted.

d. A statement as to whether the plans for recruitment and outreach for study participants include the process of establishing partnerships with community(ies) and recognition of mutual benefits.

6. Personnel and Staffing: (10 points)

Qualifications and experience of professionals to carry out the project activities.

7. Budget and Justifications: (not scored)

The extent to which the applicant provides a detailed budget and narrative justification consistent with stated objectives and planned program activities.

8. Human Subjects: (not scored)

Does the application adequately address the requirements of Title 45 CFR Part 46 for the protection of human subjects? (Not scored; however, an application can be disapproved if the research risks are sufficiently serious and protection against risks is so inadequate as to make the entire application unacceptable.)

9. Review of Non-Competing Continuation Applications within the project period will be made on the basis of the following criteria:

a. Availability of funds;

b. Satisfactory progress made in meeting project objectives;

c. Objectives for the new budget period that are realistic, specific, and measurable;

d. Any proposed changes that benefit the objectives, methods of operation, and continuing need for cooperative agreement support;

e. Evaluation procedures which will lead to achievement of project objectives; and

f. The budget request which is clearly justified and consistent with the intended use of cooperative agreement funds.

H. Other Requirements

Technical Reporting Requirements

Provide CDC with original plus two copies of:

1. quarterly progress reports;

2. financial status report, due no more than 90 days after the end of the budget period; and

3. final financial and performance reports, no more than 90 days after the end of the project period.

Send all reports to the Grants Management Specialist identified in the “Where to Obtain Additional Information” section of this announcement.

The following additional requirements are applicable to this program. For a complete description of each, see Attachment I in the application kit.

AR-1 Human Subjects Requirements

AR-2 Requirements for Inclusion of Women and Racial and Ethnic Minorities in Research

AR-3 Animal Subjects Requirements

AR-5 HIV Program Review Panel Requirements

AR-9 Paperwork Reduction Act Requirements

AR-10 Smoke-Free Workplace Requirements

AR-11 Healthy People 2010

AR-12 Lobbying Restrictions

AR-14 Accounting System Requirements

AR-15 Proof of Non-Profit Status

AR-22 Research Integrity

I. Authority and Catalog of Federal Domestic Assistance Number

This program is authorized under Section 301 (a) and 317(k)(2) [42 U.S.C. 214(a) and 247b(k)(2)] of the Public Health Service Act, as amended. The Catalog of Federal Domestic Assistance number is 93.283.

J. Where To Obtain Additional Information

This and other CDC announcements can be found on the CDC home page Internet address—http://www.cdc.gov. Click on “Funding” then “Grants and Cooperative Agreements.”

To receive additional written information and to request an application kit, call 1-888-472-GRANTS4 (1-888-472-6874). You will be asked to leave your name and address and will be instructed to identify the Program Announcement number of interest.

If you have questions after reviewing the contents of all the documents, business management technical assistance may be obtained from: Peaches Brown, Grants Management Specialist, Grants Management Branch, Procurement and Grants Office, Centers for Disease Control and Prevention, 2920 Brandywine Road, Room 3000 MS-15, Atlanta, Georgia 30341-4146, Telephone number: 770-488-2738, Email address: prb0@cdc.gov

For program technical assistance, contact: Karen H. Bouye, Senior Advisor for Research, Office of the Associate Director for Minority Health, Office of the Director, Centers for Disease Control and Prevention, 1600 Clifton Road, Northeast, Mailstop D-39, Atlanta, Georgia 30333, Telephone: (404) 639-4313, Email address: keh2@cdc.gov

Dated: June 27, 2000.
John L. Williams,
Director, Procurement and Grants Office, Centers for Disease Control and Prevention (CDC).

[FR Doc. 01-16656 Filed 7-2-01; 8:45 am]

BILLING CODE 4163-18-P